DEPARTMENT OF COMMERCE

International Trade Administration

[A-583-849]

Steel Wire Garment Hangers From Taiwan: Rescission of Antidumping Duty Administrative Review; 2015-2016

AGENCY: Enforcement and Compliance, International Trade Administration, Department of Commerce.

DATES: Effective March 27, 2017.

SUMMARY: The Department of Commerce (the Department) is rescinding the administrative review of the antidumping duty order on steel wire garment hangers from Taiwan for the period of review (POR), December 1, 2015, through November 30, 2016.

FOR FURTHER INFORMATION CONTACT: Julia Hancock, AD/CVD Operations, Office V, Enforcement and Compliance, International Trade Administration, U.S. Department of Commerce, 1401 Constitution Avenue NW., Washington, DC 20230; telephone (202) 482-6491.

SUPPLEMENTARY INFORMATION:

Background

On December 1, 2016, the Department published in the Federal Register a notice of “Opportunity to Request Administrative Review” of the antidumping duty order on steel wire garment hangers from Taiwan for the period of December 1, 2015, through November 30, 2016.¹ On December 21, 2016, in accordance with section 751(a) of the Tariff Act of 1930, as amended, (the Act), and 19 CFR 351.213(b), the Department received a timely request from Petitioners ² to conduct an administrative review of the antidumping duty order on steel wire garment hangers from Taiwan manufactured or exported by Gee Ten Enterprise Co., Ltd. (Gee Ten Enterprise), Inmall Enterprises Co., Ltd. (Inmall Enterprises), Mindful Life and Coaching Co., Ltd. (Mindful Life), Ocean Concept Corporation (Ocean Concept), Su-Chia International Ltd. (Su-Chia International), Taiwan Hanger Manufacturing Co., Ltd. (Taiwan Hanger), and Young Max Enterprises Co. Ltd. (Young Max Enterprises).³

¹ See Antidumping or Countervailing Duty Order, Finding, or Suspended Investigation; Opportunity to Request Administrative Review, 81 FR 86694 (December 1, 2016) (Notice regarding Request for Review).

² M&B Metal Products Company, Inc., Innovative Fabrication LLC/Indy Hanger and US Hanger Company, LLC (collectively “Petitioners”).

³ See Petitioners' letter, “Steel Wire Garment Hangers from Taiwan: Request for Fourth Administrative Review,” (December 21, 2016).

On February 13, 2017, the Department published in the Federal Register a notice of initiation of an administrative review of the antidumping duty order for Gee Ten Enterprise, Inmall Enterprises, Mindful Life, Ocean Concept, Su-Chia International, Taiwan Hanger, and Young Max Enterprises.⁴ On March 2, 2017, Petitioners timely withdrew their request for an administrative review for all companies under review.⁵

⁴ See Initiation of Antidumping and Countervailing Duty Administrative Reviews, 82 FR 10457 (February 13, 2017) (Initiation).

⁵ See Petitioners' letter, “Withdrawal of Request for Fourth Administrative Review,” (March 2, 2017).

Rescission of Review

Pursuant to 19 CFR 351.213(d)(1), the Department will rescind an administrative review, if the party that requested the review withdraws its request within 90 days of the publication of the notice of initiation of the requested review. Petitioners withdrew their request within the 90-day deadline. No other party requested an administrative review of the antidumping duty order. Therefore, in response to the timely withdrawal of the review request, the Department is rescinding in its entirety the administrative review of the antidumping duty order on steel wire garment hangers from Taiwan.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions to CBP 15 days after the publication of this notice in the Federal Register.

Notification to Importers

This notice serves as the only reminder to importers whose entries will be liquidated as a result of this rescission, of their responsibility under 19 CFR 351.402(f)(2) to file a certificate regarding the reimbursement of antidumping duties prior to liquidation of the relevant entries during this review period. Failure to comply with this requirement may result in the presumption that reimbursement of antidumping duties occurred and the subsequent assessment of doubled antidumping duties.

Notification Regarding Administrative Protective Order

This notice serves as the only reminder to parties subject to the administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is published in accordance with sections 751(a) and 777(i)(1) of the Act and 19 CFR 351.213(d)(4).

Dated: March 20, 2017.
Gary Taverman,
Acting Deputy Assistant Secretary for Antidumping and Countervailing Duty Operations.

[FR Doc. 2017-05987 Filed 3-24-17; 8:45 am]

BILLING CODE 3510-DS-P